DEPARTMENT OF HEALTH AND HUMAN SERVICES

Centers for Disease Control and Prevention

[Program Announcement 04132]

Organ Transplant Infection Detection and Preventon Program

Correction

In notice document 04-10535 beginning on page 25904 in the issue of Monday May 10, 2004, make the following correction:

On page 25907 in the first column, under the heading “IV.3. Submission Dates and Times”ÿ7Eÿ7E in the 10th and 11th lines, ”June 21, 2004” should read “ÿ7EJune 24, 2004”.

[FR Doc. C4-10535 Filed 5-19-04; 8:45 am]

BILLING CODE 1505-01-D

DEPARTMENT OF THE TREASURY

Internal Revenue Service

Privacy Act of 1974, as Amended; System of Records

Correction

In notice document 04-10851 beginning on page 26432 in the issue of Wednesday, May 12, 2004, make the following correction:

On page 26432, in the second column, under DATES, in the fourth line, “June 6, 2004” should read “June 21, 2004”.

[FR Doc. C4-10851 Filed 5-19-04; 8:45 am]

BILLING CODE 1505-01-D